DEPARTMENT OF AGRICULTURE

Agricultural Marketing Service

[Doc. No.: AMS-SC-17-0010]

Notice of Request for a Revision to and Extension of Approval of an Information Collection: Qualitative Feedback on Agency Service Delivery

AGENCY: Agricultural Marketing Service, USDA.

ACTION: Revision to and extension of approval of an information collection; comment request.

SUMMARY: In accordance with the Paperwork Reduction Act of 1995, this notice announces the Agricultural Marketing Service's (AMS) intention to request approval from the Office of Management and Budget (OMB), for a revision to and an extension of approval of an information collection associated with qualitative customer and stakeholder feedback on service delivery by the AMS.

DATES: All comments received by April 28, 2017 will be considered.

ADDRESSES: Comments are welcome and should referenced OMB No. 0581-0269 and AMS' Qualitative Feedback on Agency Service Delivery, and the date and page number of this issue of the Federal Register. Comments may be submitted by mail to the Docket Clerk, Legislative & Regulatory Review Staff, AMS, USDA, 1400 Independence Avenue SW., Stop 0202, Room 3943-S, Washington, DC 20250; Fax: (202) 690-3767; or submitted online at www.regulations.gov. All comments received will be available for public inspection in the Office of the Docket Clerk during regular USDA business hours or they can be viewed at www.regulations.gov.

FOR FURTHER INFORMATION CONTACT: Contact Marylin Pish, Legislative & Regulatory Review Staff, Agricultural Marketing Service, U.S. Department of Agriculture, 1400 Independence Avenue SW., Stop 0202, Room 3943-S, Washington, DC 20250. Phone: (202) 580-9971. Fax: (202) 690-3767. Email: Marilyn.pish@ams.usda.gov.

SUPPLEMENTARY INFORMATION: Title: Generic Clearance for the Collection of Qualitative Feedback on Agency Service Delivery-AMS.

OMB Number: 0581-0269.

Expiration Date of Approval: July 31, 2017.

Type of Request: Revision to and extension of approval of an information collection.

Abstract: The proposed information collection activity provides a means for AMS to garner qualitative customer and stakeholder feedback in an efficient, timely manner, in accordance with the Agency's commitment to improving service delivery.

By qualitative feedback we mean information that provides useful insights on perceptions and opinions, but not statistical surveys that yield quantitative results that can be generalized to the population of study. This feedback will provide insights into customer or stakeholder perceptions, experiences, and expectations; provide an early warning of issues with service; or focus attention on areas where communication, training, or changes in operations might improve delivery of products or services. This collection will allow for ongoing, collaborative and actionable communications between the Agency and its customers and stakeholders. It will also allow feedback to contribute directly to the improvement of program management.

The solicitation of feedback will target areas such as: Timeliness, appropriateness, accuracy of information, courtesy, efficiency of service delivery, and resolution of issues with service delivery. Responses will be assessed to plan and inform efforts to improve or maintain the quality of service offered to the public. If this information is not collected, vital feedback from customers and stakeholders on the Agency's services will be unavailable.

AMS will only submit a collection for approval under this generic clearance if it meets the following conditions:

• The collection is voluntary;

• The collection is low-burden for respondents (based on considerations of total burden hours, total number of respondents, or burden-hours per respondent) and is low-cost for both the respondents and the Federal Government;

• The collection is non-controversial and does not raise issues of concern to other Federal agencies;

• The collection is targeted to the solicitation of opinions from respondents who have experience with the program or may have experience with the program in the near future;

• Personally identifiable information (PII) is collected only to the extent necessary and is not retained;

• Information gathered is intended to be used only internally for general service improvement and program management purposes and is not intended for release outside of AMS (if released, AMS must indicate the qualitative nature of the information);

• Information gathered will not be used for the purpose of substantially informing influential policy decisions; and

• Information gathered will yield qualitative information; the collection will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential nonresponse bias, the protocols for data collection, and any testing procedures that were or will be undertaken prior to fielding this study. Depending on the degree of influence the results are likely to have, such collections may still be eligible for submission for other generic mechanisms that are designed to yield quantitative results.

As a general matter, this information collection will not result in any new system of records containing privacy information and will not ask questions of a sensitive nature, such as sexual behavior and attitudes, religious beliefs, and other matters that are commonly considered private.

AMS currently has approval from the Office of Management and Budget (OMB) for this information collection. This approval is for 60,000 burden hours, based on our initial request to OMB in April 2011. We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: Public reporting burden for this collection of information is estimated to average .50 hours per response.

Respondents: Individuals and households; businesses and organizations; State, local, or Tribal government.

Estimated Annual Number of Respondents: 110,000.

Estimated Number of Responses: 110,000.

Estimated Annual Number of Responses per Respondent: 1.

Estimated Total Annual Burden on Respondents: 60,000/(Due to averaging, the total annual burden hours may not equal the product of the annual number of responses multiplied by the reporting burden per response.)

Comments may be sent to [name and address of AMS representative]. All comments received will be available for public inspection during regular business hours at the same address.

All responses to this notice will be summarized and included in the request for OMB approval. All comments will become a matter of public record.

Dated: February 22, 2017.
Bruce Summers,
Acting Administrator, Agricultural Marketing Service.

[FR Doc. 2017-03812 Filed 2-24-17; 8:45 am]

BILLING CODE 3410-02-P